DEPARTMENT OF THE INTERIOR

National Park Service

Notice of Inventory Completion of Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by American Museum of Natural History professional staff in consultation with representatives of the Barona Group of Capitan Grande Band of Mission Indians of the Barona Reservation, California; the Campo Band of Diegueno Mission Indians of the Campo Indian Reservation, California; the Cuyapaipe Community of Diegueno Mission Indians of the Cuyapaipe Reservation, California; the Inaja Band of Diegueno Mission Indians of the Inaja and Cosmit Reservation, California; Jamul Indian Village of California; the La Posta Band of Diegueno Mission Indians of the La Posta Indian Reservation, California; the Manzanita Band of Diegueno Mission Indians of the Manzanita Reservation, California; the Mesa Grande Band of Diegueno Mission Indians of the Mesa Grande Reservation, California; the San Pasqual Band of Diegueno Mission Indians of California; the Santa Ysabel Band of Diegueno Mission Indians of the Santa Ysabel Reservation, California; the Sycuan Band of Diegueno Mission Indians of California; and the Viejas (Baron Long) Group of Capitan Grande Band of Mission Indians of the Viejas Reservation, California.

In 1907, human remains representing a minimum of one individual were collected by an unknown collector (“an Indian”) from southern California. Constance Goddard DuBois purchased the remains from the collector in 1907, and the American Museum of Natural History purchased the remains from Ms. DuBois in the same year. No known individual was identified. The eight associated funerary objects include a burial urn, daub, chipped stone, a projectile point, shell, ceramics, charcoal, and animal bone.

This individual has been identified as Native American based on mortuary treatment, its provenience within the historic territory of the Diegueño, and the association with the culture name Diegueño in American Museum of Natural History records. The practice of cremation and the placement of human remains into mortuary urns is consistent with Diegueño burial practices that were observed at the time of and slightly after contact. Archeological evidence documents cultural continuity in this area from the late pre-contact (circa 1500 B.P.) into the contact period. The Diegueño have remained within this territory under successive Spanish, Mexican, and Anglo-American governments.

In an unknown year, human remains representing a minimum of one individual were collected by an unknown collector from a location 40 miles east of Mesa Grande, Vallecito Mountains(?), Vallecito(?), San Diego County, CA. The American Museum of Natural History acquired these human remains in an exchange with the Museum of the American Indian, Heye Foundation in 1919. Details of the transfer from the unknown collector to the Museum of the American Indian, Heye Foundation are not known. No known individual was identified. The one associated funerary object is a mortuary jar.

This individual has been identified as Native American based on the mortuary treatment of these human remains and geographic evidence. The mortuary practice of cremation and placement of the remains into mortuary urns is consistent with burial practices observed by Diegueño peoples at the time of and slightly after contact in southern California. These remains derive from the territory of the Diegueño in the post-contact period. The Diegueño have remained within these boundaries during successive Spanish, Mexican, and Anglo-American governments.

Based on the above-mentioned information, officials of the American Museum of Natural History have determined that, pursuant to 43 CFR 10.2(d)(1), the human remains listed above represent the physical remains of a minimum of two individuals of Native American ancestry. Officials of the American Museum of Natural History also have determined that, pursuant to 43 CFR 10.2(d)(2), the nine objects listed above are reasonably believed to have been placed with or near these individual human remains at the time of death or later as part of the death rite or ceremony. Lastly, officials of the American Museum of Natural History have determined that, pursuant to 43 CFR 10.2(e), there is a relationship of shared group identity that can be reasonably traced between these Native American human remains and associated funerary objects and the Barona Group of Capitan Grande Band of Mission Indians of the Barona Reservation, California; the Campo Band of Diegueno Mission Indians of the Campo Indian Reservation, California; the Cuyapaipe Community of Diegueno Mission Indians of the Cuyapaipe Reservation, California; the Inaja Band of Diegueno Mission Indians of the Inaja and Cosmit Reservation, California; Jamul Indian Village of California; the La Posta Band of Diegueno Mission Indians of the La Posta Indian Reservation, California; the Manzanita Band of Diegueno Mission Indians of the Manzanita Reservation, California; the Mesa Grande Band of Diegueno Mission Indians of the Mesa Grande Reservation, California; the San Pasqual Band of Diegueno Mission Indians of California; the Santa Ysabel Band of Diegueno Mission Indians of the Santa Ysabel Reservation, California; the Sycuan Band of Diegueno Mission Indians of California; and the Viejas (Baron Long) Group of Capitan Grande Band of Mission Indians of the Viejas Reservation, California.

This notice has been sent to officials of the Kumeyaay Cultural Repatriation Committee; the Barona Group of Capitan Grande Band of Mission Indians of the Barona Reservation, California; the Campo Band of Diegueno Mission Indians of the Campo Indian Reservation, California; the Cuyapaipe Community of Diegueno Mission Indians of the Cuyapaipe Reservation, California; the Inaja Band of Diegueno Mission Indians of the Inaja and Cosmit Reservation, California; Jamul Indian Village of California; the La Posta Band of Diegueno Mission Indians of the La Posta Indian Reservation, California; the Manzanita Band of Diegueno Mission Indians of the Manzanita Reservation, California; the Mesa Grande Band of Diegueno Mission Indians of the Mesa Grande Reservation, California; the San Pasqual Band of Diegueno Mission Indians of California; the Santa Ysabel Band of Diegueno Mission Indians of the Santa Ysabel Reservation, California; the Sycuan Band of Diegueno Mission Indians of California; and the Viejas (Baron Long) Group of Capitan Grande Band of Mission Indians of the Viejas Reservation, California. Representatives of any other Indian tribe that believes itself to be culturally affiliated with these human remains and associated funerary objects should contact Martha Graham, Director of Cultural Resources, American Museum of Natural History, Central Park West at 79th Street, New York, NY 10024-5192, telephone (212) 769-5846, before November 13, 2000. Repatriation of the human remains and associated funerary objects to the Kumeyaay Cultural Repatriation Committee on behalf of the Barona Group of Capitan Grande Band of Mission Indians of the Barona Reservation, California; the Campo Band of Diegueno Mission Indians of the Campo Indian Reservation, California; the Cuyapaipe Community of Diegueno Mission Indians of the Cuyapaipe Reservation, California; the Inaja Band of Diegueno Mission Indians of the Inaja and Cosmit Reservation, California; Jamul Indian Village of California; the La Posta Band of Diegueno Mission Indians of the La Posta Indian Reservation, California; the Manzanita Band of Diegueno Mission Indians of the Manzanita Reservation, California; the Mesa Grande Band of Diegueno Mission Indians of the Mesa Grande Reservation, California; the San Pasqual Band of Diegueno Mission Indians of California; the Santa Ysabel Band of Diegueno Mission Indians of the Santa Ysabel Reservation, California; the Sycuan Band of Diegueno Mission Indians of California; and the Viejas (Baron Long) Group of Capitan Grande Band of Mission Indians of the Viejas Reservation, California may begin after that date if no additional claimants come forward.

Dated: October 5, 2000.
John Robbins,
Assistant Director, Cultural Resources, Stewardship and Partnerships.

[FR Doc. 00-26146 Filed 10-11-00; 8:45 am]

BILLING CODE 4310-70-P